GENERAL SERVICES ADMINISTRATION

Notice of the Availability of the Record of Decision for Badger Army Ammunition Plant Disposal

AGENCY: General Services Administration, New England Region.

ACTION: Notice of a Record of Decision.

SUMMARY: The General Services Administration (GSA) announces the availability of the Record of Decision (ROD) for the Environmental Impact Statement (EIS) for the disposal of Badger Army Ammunition Plant (Badger AAP), Sauk County, Wisconsin.

Background Information

Pursuant to Section 102(2)(c) of the National Environmental Policy Act of 1969, the Council of Environmental Quality Regulations (40 CFR Parts 1500-1508), and GSA Orders ADM 1095.1F and ADM 1020.1, GSA has prepared an EIS for the disposal of approximately 7,354 acres of Badger AAP, located in Sauk County, Wisconsin. GSA's action is the administrative act of transferring ownership of this property through one, or a combination of, disposal mechanisms as dictated by Section 203 of the Federal Property and Administrative Services Act of 1949 (49 Act), as amended (40 U.S.C. 484).ⁱ Disposal mechanisms available to GSA include: Transferring property to other Federal agencies; conveying property to state or local governments and institutions; and conveying property to private entities.

ⁱ Subsequent to publication of the Draft EIS, Public Law 107-217 was enacted to revise and codify without substantive change certain laws related to public buildings, property, and works. GSA's real property policies were transferred from the Federal Property Management Regulations (FPMR) to the Federal Management Regulations (FMR) in Title 40 of the U.S.C. Reference to the conversion tables are provided in House Report 107-479, pp. 136-278, and are available at http://thomas.loc.gov. The ROD and Final EIS will reference the FPMR in conformity with the Draft EIS.

Project Information

The Badger AAP was declared excess to the United States Army's (U.S. Army) mission in 1998. Government properties that are declared excess must be disposed of in accordance with Section 203 of the 49 Act, as amended. Currently, the U.S. Army maintains Badger AAP.

Disposal of Badger AAP by GSA would remove the property from Federal ownership, except for any parcel that may be accepted for transfer to another Federal agency. Whether transferred in its entirety or over time in separate parcels to one or more entities, the land removed from Federal ownership subsequently (and only after transfer) may become subject to Merrimac or Sumpter Township's and Sauk County's land use decisions and taxing authority. All future development or reuse would be determined by subsequent owners and may be subject to local zoning, permitting, and land use controls. In addition, GSA has facilitated the development of a Memorandum of Understanding and an Intergovernmental Agreement among the stakeholders to provide for the coordination of the operation and management of these lands after disposal takes place. These agreements are pending final execution by all parties thereto. GSA has evaluated two alternatives as part of the EIS including the No-Action Alternative and the Disposal Alternative (Proposed Action and Preferred Alternative).

GSA issued a Draft EIS in June 2002 with publication of the Notice of Availability (NOA) in the Federal Register on July 5, 2002. The NOA provided a start date for the 45-day public comment period that was originally scheduled to end on August 19, 2002 but was extended by 42 days to end on September 30, 2002. The notice of extension for the public review period was published in the Federal Register on August 23, 2002. During the public comment period a public hearing for the Draft EIS was held in Baraboo, Wisconsin on July 24, 2002.

The Final EIS addressed comments received on the Draft EIS and was released on March 13, 2003 with publication of the NOA in the Federal Register on March 21, 2003 for final comment. The 30-day public comment period was originally scheduled to end on April 21, 2003, but was extended 7 days to close on April 28, 2003. The notice of extension was published in the Federal Register on April 18, 2003. A total of seven comments were received during the public review period on the Final EIS. Six of these comments are similar to comments received on the Draft EIS and were considered in the decision presented in this ROD. The seventh comment was received from the Environmental Protection Agency (EPA), which concluded: “provided that the recommendation concerning open burning activities is complied with, our Agency will not object to the implementation of the project as described in the Final EIS.” EPA's recommendations, in actuality, related to actions of the Holding Agency, Army—BAAP, and are separate and apart from GSA's Proposed Action, but the Holding Agency's actions are indeed wholly in compliance with EPA's recommendation. An eighth comment was received late from Department of the Interior, dated after the close of the comment period.

GSA provided written notices of the availability of the Draft EIS and Final EIS in the Federal Register, local newspapers, and through local libraries. GSA distributed approximately 250 copies of the two volume Draft EIS and 300 copies of the Final EIS to Federal agencies, tribal, state and local governments, elected officials, interested organizations, and individuals.

Availability of Record of Decision (ROD)

The ROD and other information regarding this project are available upon request. To obtain a copy directly, please go to the web site http://www.badgeraap.org and follow the links under “What's New.”

FOR FURTHER INFORMATION CONTACT: Mr. Mark N. Lundgren, General Services Administration, at (312) 353-0302.

Dated: June 3, 2003.
Glenn C. Rotondo,
Deputy Regional Administrator, New England Region, General Services Administration.

[FR Doc. 03-15446 Filed 6-18-03; 8:45 am]

BILLING CODE 6820-23-M